DEPARTMENT OF DEFENSE

Office of the Secretary

[Docket ID DoD-2015-HA-0049]

Proposed Collection; Comment Request

AGENCY: Office of the Assistant Secretary of Defense for Health Affairs, DoD.

ACTION: Notice.

SUMMARY: In compliance the Paperwork Reduction Act of 1995, the Office of the Assistant Secretary of Defense for Health Affairs announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by July 17, 2015.

ADDRESSES: You may submit comments, identified by docket number and title, by any of the following methods:

• Federal eRulemaking Portal: http://www.regulations.gov. Follow the instructions for submitting comments.

• Mail: Department of Defense, Office of the Deputy Chief Management Officer, Directorate of Oversight and Compliance, Regulatory and Audit Matters Office, 9010 Defense Pentagon, Washington, DC 20301-9010.

Instructions: All submissions received must include the agency name, docket number and title for this Federal Register document. The general policy for comments and other submissions from members of the public is to make these submissions available for public viewing on the Internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the Defense Health Services Systems (DHSS) Program Executive Office (PEO), ATTN: CDR Patrick Amersbach, Defense Health Headquarters (DHHQ) 7700 Arlington Boulevard, Falls Church ,VA 22042-2902, or call 703-681-0845.

SUPPLEMENTARY INFORMATION:

Title; Associated Form; and OMB Number: Centralized Credentials Quality Assurance System (CCQAS); OMB Control Number 0720-TBD.

Needs and Uses: CCQAS v2.9.11 is an automated Tri-Service, Web-based database containing credentialing, privileging, risk management, and adverse actions information on direct healthcare providers in the MHS. CCQAS also allows providers to apply for privileges online. This latter capability allows for a privileging workflow for new providers, for transfers (TDY and PCS), for modification of privileges, and for renewal of privileges and staff reappointment within the system. CCQAS was CAC enforced December 2009 and as part of the Federal Health Care Center, North Chicago, VA PIV users gained access in October 2010. In November 2011, CCQAS was PKI/SSO integrated.

Affected Public: Individuals or Households.

Annual Burden Hours: 80,000.

Number of Respondents: 40,000.

Responses per Respondent: 1.

Average Burden per Response: 2 hours.

Frequency: On occasion.

Currently, CCQAS provides credentialing, privileging, risk-management and adverse actions capabilities which support medical quality assurance activities in the direct care system. CCQAS is fully deployed world-wide and is used by all Services (Army, Navy, Air Force) and Components (Guard, Reserve). CCQAS serves users functioning at the facility (defined by an individual UIC), Service, and DoD levels. Access to CCQAS modules and capabilities within each module is permissions-based, so that users have access tailored to the functions they perform and sensitive information receives maximal protection. Within each module, access control is available to the screen level.

Dated: May 13, 2015.
Aaron Siegel,
Alternate OSD Federal Register, Liaison Officer, Department of Defense.

[FR Doc. 2015-11971 Filed 5-15-15; 8:45 am]

BILLING CODE 5001-06-P